DEPARTMENT OF AGRICULTURE

Forest Service

Olympic Provincial Advisory Committee

AGENCY: Forest Service, USDA.

ACTION: Notice of meeting.

SUMMARY: The Olympic Province Advisory Committee (OPAC) will meet on February 22, 2002. The meeting will be held at the Jamestown S'Klallam Tribal Center in Blyn, Washington. The meeting will begin at 9 a.m. and end at approximately 3 p.m. Agenda topics are: (1) Current status of key Forest issues; (2) Status update on the Resource Advisory Committees for Rural Schools and Community Self-Determination Act of 2000; (3) Vacant committee positions; (4) Open forum; and (5) Public comments.

All Olympic Province Advisory Committee Meetings are open to the public. Interested citizens are encourage to attend.

FOR FURTHER INFORMATION CONTACT: Direct questions regarding this meeting to Ken Eldredge, Province Liaison, USDA, Olympic National Forest Headquarters, 1835 Black Lake Blvd. Olympia, WA 98512-5623, (360) 956-2323 or Dale Hom, Forest Supervisor, at (360) 956-2301.

Dated: January 22, 2002.
Dale Hom,
Forest Supervisor, Olympic National Forest.

[FR Doc. 02-2305 Filed 1-30-02; 8:45 am]

BILLING CODE 3410-11-M